DEPARTMENT OF COMMERCE

Foreign-Trade Zones Board

[B-11-2023]

Foreign-Trade Zone (FTZ) 121—Albany, New York; Notification of Proposed Production Activity; Curia Global, Inc. (Pharmaceutical Chemicals Production); Rensselaer, New York

The Capital District Regional Planning Commission, grantee of FTZ 121, submitted a notification of proposed production activity to the FTZ Board (the Board) on behalf of Curia Global, Inc., located in Rensselaer, New York within Subzone 121A. The notification conforming to the requirements of the Board's regulations (15 CFR 400.22) was received on February 1, 2023.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz. The proposed finished product(s) and material(s)/component(s) would be added to the production authority that the Board previously approved for the operation, as reflected on the Board's website.

The proposed finished product is 4-(3-(4-Cyano-3-(trifluoromethyl)phenyl)-5,5-dimethyl-4-oxo-2-thioxoimidizolidin-1-yl)-2-fluoro-N-methylbenzamide (duty rate 6%).

The proposed foreign-status materials and components are 2-(3-fluoro-4-(methylcarbamoyl)phenylamino)-2-methylpropanoic acid and 4-Isothiocyanato-2-(trifluoromethyl)benzonitrile (duty rate ranges from 3.7% to 6.5%). The request indicates that the materials/components are subject to duties under section 301 of the Trade Act of 1974 (section 301), depending on the country of origin. The applicable section 301 decisions require subject merchandise to be admitted to FTZs in privileged foreign status (19 CFR 146.41).

Public comment is invited from interested parties. Submissions shall be addressed to the Board's Executive Secretary and sent to: ftz@trade.gov. The closing period for their receipt is March 20, 2023.

A copy of the notification will be available for public inspection in the “Online FTZ Information System” section of the Board's website.

For further information, contact Christopher Wedderburn at Chris.Wedderburn@trade.gov.

Dated: February 1, 2023.
Elizabeth Whiteman,
Acting Executive Secretary.

[FR Doc. 2023-02539 Filed 2-6-23; 8:45 am]

BILLING CODE 3510-DS-P